DEPARTMENT OF ENERGY

Federal Energy Regulatory Commission

Combined Notice of Filings #1

Take notice that the Commission received the following electric rate filings:

Docket Numbers: ER14-195-001.

Applicants: Duke Energy Florida, Inc.

Description: Duke Energy Florida, Inc. submits CBR Name Change Correction Filing to be effective 12/27/2013.

Filed Date: 12/11/13.

Accession Number: 20131211-5100.

Comments Due: 5 p.m. ET 12/18/13.

Docket Numbers: ER14-196-001.

Applicants: Duke Energy Florida, Inc.

Description: Duke Energy Florida, Inc. submits Cancellation of Duke Energy Florida OATT Certificate of Concurrence to be effective 12/27/2013.

Filed Date: 12/11/13.

Accession Number: 20131211-5127.

Comments Due: 5 p.m. ET 12/18/13.

Docket Numbers: ER14-197-000.

Applicants: Duke Energy Florida, Inc.

Description: Duke Energy Florida, Inc. submits OATT Name Change Correction to be effective N/A.

Filed Date: 12/11/13.

Accession Number: 20131211-5134.

Comments Due: 5 p.m. ET 12/18/13.

Docket Numbers: ER14-198-001.

Applicants: Duke Energy Florida, Inc.

Description: Duke Energy Florida, Inc. submits Rate Schedules Name Change Filing No. 1 Correction to be effective 12/27/2013.

Filed Date: 12/11/13.

Accession Number: 20131211-5050.

Comments Due: 5 p.m. ET 12/18/13.

Docket Numbers: ER14-596-000.

Applicants: Southwest Power Pool, Inc.

Description: Southwest Power Pool, Inc. submits Distribution of Penalty Revenues to be effective 12/11/2013.

Filed Date: 12/11/13.

Accession Number: 20131211-5146.

Comments Due: 5 p.m. ET 1/2/14.

Docket Numbers: ER14-597-000.

Applicants: Northern Pass Transmission LLC.

Description: Northern Pass Transmission LLC submits NPT—HRE Amendment to TSA to be effective 2/14/2014.

Filed Date: 12/11/13.

Accession Number: 20131211-5148.

Comments Due: 5 p.m. ET 1/2/14.

Docket Numbers: ER14-598-000.

Applicants: South Carolina Electric & Gas Company.

Description: South Carolina Electric & Gas Company submits OATT Order No. 784 to be effective 12/27/2013.

Filed Date: 12/12/13.

Accession Number: 20131212-5022.

Comments Due: 5 p.m. ET 1/2/14.

Docket Numbers: ER14-599-000.

Applicants: PJM Interconnection, L.L.C.

Description: PJM Interconnection, L.L.C. submits First Revised Service Agreement No. 3410; Queue No. W4-029 & Y1-075 to be effective 11/14/2013.

Filed Date: 12/12/13.

Accession Number: 20131212-5041.

Comments Due: 5 p.m. ET 1/2/14.

Docket Numbers: ER14-600-000.

Applicants: Florida Power & Light Company.

Description: Florida Power & Light Company submits FPL OATT Order No. 784 Compliance Filing to be effective 12/27/2013.

Filed Date: 12/12/13.

Accession Number: 20131212-5062.

Comments Due: 5 p.m. ET 1/2/14.

Docket Numbers: ER14-601-000.

Applicants: Anahau Energy, LLC.

Description: Anahau Energy, LLC submits Revisions to Category Status under Market-Based Rate Tariff to be effective 12/13/2013.

Filed Date: 12/12/13.

Accession Number: 20131212-5078.

Comments Due: 5 p.m. ET 1/2/14.

Docket Numbers: ER14-602-000.

Applicants: Quest Energy, LLC.

Description: Quest Energy, LLC submits Cancel Tariff to be effective 12/12/2013.

Filed Date: 12/12/13.

Accession Number: 20131212-5081.

Comments Due: 5 p.m. ET 1/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2013.
Nathaniel J. Davis, Sr.,
Deputy Secretary.

[FR Doc. 2013-30214 Filed 12-18-13; 8:45 am]

BILLING CODE 6717-01-P